ENVIRONMENTAL PROTECTION AGENCY

[FRL-7405-4]

Notice of Public Scoping Meeting on the Preparation of an Environmental Impact Statement (EIS) on the Federal Funding, Construction, Operation and Monitoring of a Coastal Wetlands Restoration Project, the Mississippi River Water Reintroduction Into Maurepas Swamp

On April 26, 2002, the U.S. Environmental Protection Agency, Region 6 (EPA) published a Notice of Intent (NOI) in the Federal Register that it was planning to develop an environmental impact statement on the restoration project as the Federal member of the Task Force created by the Coastal Wetlands Planning, Protection and Restoration Act, Public Law 101-646 (CWPPRA) designated to carry out the project. The EPA will hold a Scoping Meeting for the EIS on December 11, 2002, at the Garyville/Mt. Airy Magnet School, 240 Highway 54, in Garyville, LA 70051. Formal meeting presentations will begin at 6:30 p.m.; the meeting room will be open with poster displays at 5:30 p.m. Individuals, groups, officials, and Federal, State, Tribal, and local agencies are invited to participate in the scoping process to help determine impacts on resources, issues, and alternatives to be examined in detail in the EIS.

Purpose: EPA has determined that the proposed wetlands restoration effort is a Major Federal Action significantly impacting the human environment. The purpose of the EIS is to ensure that decisions are made in accordance with the policies and purposes of the National Environmental Policy Act. The EIS will be considered by the CWPPRA Task Force in its decisions on funding, construction, operations, monitoring and on alternative features and activities associated with carrying out the project.

Summary of Project: The proposed action provides for the reintroduction of Mississippi River water into swamps south of Lake Maurepas in Louisiana for the purpose of restoring the ecological health and productivity of the swamps. Over time, hydrologic modifications to the riverine system have eliminated the natural inputs of freshwater, nutrients, and sediment that built and maintained the wetlands. These swamps are stressed and dying due to saltwater intrusion and excessive flooding, which is due to subsidence and insufficient accumulation of sediment. The project will divert in excess of 1,500 cubic feet per second of fresh river water through a proposed box-culvert diversion structure in the levee of the Mississippi River, then through an outflow channel for a distance of approximately five miles, and into the Maurepas swamps. The presently proposed water diversion would be constructed in the Garyville, Louisiana area, connecting to the existing Hope Canal north of U.S. Highway 61. As part of this alternative, the Hope Canal is proposed to be enlarged in order to accommodate the estimated flows. The project is estimated to benefit more than 36,000 acres of cypress-tupelo swamps by increasing input of freshwater, sediments, nutrients, and oxygen. The EIS will consider impacts of this project with existing and/or proposed flood control measures of the foreseeable future. Efforts will be made to ensure that severity of existing local drainage problems is not increased as a result of this project. Information from reconnaissance level studies for project development included preliminary site reviews; hydrologic modeling of existing conditions and basic diversion scenarios; baseline ecological field studies; and surveys of elevations and cross-sections, and will be provided in the EIS.

Alternative Actions: The CWPPRA Task Force may determine to fund and construct the restoration project; the CWPPRA Task Force may deny funding and construction of the restoration project; or, the Task Force may determine to take no final action until additional funds are available. The EIS will be utilized in other actions such as the Clean Water Act Section 404 Permit which (1) may be issued as requested, (2) may be issued with conditions, or (3) may be denied.

To Submit Scoping Comments, To Request Additional Information, or To Be Placed on the EIS Mailing List, Contact: Jeanene Peckham at EPA Water Quality Protection Field Office, 707 Florida Blvd., Suite B-21, Baton Rouge, LA, 70801; telephone (225) 389-0736, e-mail peckham.jeanene@epa.gov.

Estimated Date for Release of Draft EIS: Spring 2004.

Responsible Official: Gregg A. Cooke, Regional Administrator.

Oscar Ramirez, Jr.,
Acting Director, Water Quality Protection Division (6WQ).

[FR Doc. 02-28352 Filed 11-6-02; 8:45 am]

BILLING CODE 6560-50-P